DEPARTMENT OF COMMERCE

International Trade Administration

[A-570-601]

Tapered Roller Bearings and Parts Thereof, Finished and Unfinished, From the People's Republic of China: Final Results and Final Determination of No Shipments of Antidumping Duty Administrative Review; 2023-2024

AGENCY: Enforcement and Compliance, International Trade Administration, Department of Commerce.

SUMMARY: The U.S. Department of Commerce (Commerce) determines that C&U Group Shanghai Bearing Co., Ltd. (C&U Shanghai) did not qualify for a separate rate, and therefore, is considered part of the People's Republic of China (China)-wide entity. Additionally, Commerce determines that Shanghai Tainai Bearing Co., Ltd. (Tainai) had no shipments of subject merchandise during the period of review (POR), June 1, 2023, through May 31, 2024.

DATES: Applicable January 5, 2026.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On June 20, 2025, Commerce published in the Federal Register the preliminary results of this administrative review of the antidumping duty order on tapered roller bearings and parts thereof, finished and unfinished (TRBs) from China.¹ This review covers two companies: C&U Shanghai, preliminarily determined to be part of the China-wide entity and, Tainai, preliminarily determined to have no shipments of subject merchandise during the POR.² We invited parties to comment on the Preliminary Results.³ No interested party submitted comments. Accordingly, the final results are unchanged from the Preliminary Results, and no decision memorandum accompanies this Federal Register notice. Commerce conducted this administrative review in accordance with section 751(a) of the Tariff Act of 1930, as amended (the Act).

¹ See Tapered Roller Bearings and Parts Thereof, Finished and Unfinished, from the People's Republic of China: Preliminary Results of Antidumping Administrative Review, Rescission, in Part, and Preliminary Determination of No Shipments; 2023-2024, 90 FR 26271 (June 20, 2025) (Preliminary Results).

² See Tainai's Letter, “No Shipment Certification,” dated August 20, 2024; see also Preliminary Results.

³ See Preliminary Results at 26271.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for these final results is now December 29, 2025.⁶

⁴ See Memorandum, “Deadlines Affected by the Shutdown of the Federal Government,” dated November 14, 2025.

⁵ See Memorandum, “Tolling of all Case Deadlines,” dated November 24, 2025.

⁶ Commerce's practice dictates that, where a deadline falls on a weekend or federal holiday, the appropriate deadline is the next business day. See Notice of Clarification: Application of “Next Business Day” Rule for Administrative Determination Deadlines Pursuant to the Tariff Act of 1930, As Amended, 70 FR 24533 (May 10, 2005).

Scope of the Order ⁷

⁷ See Tapered Roller Bearings from the People's Republic of China; Amendment to Final Determination of Sales at Less Than Fair Value and Antidumping Duty Order in Accordance with Decision Upon Remand, 55 FR 6669 (February 26, 1990) (Order).

The merchandise subject to the Order is TRBs from China. For a full description of the scope of the Order, see the Preliminary Results.⁸

⁸ See Preliminary Results.

Final Determination of No Shipments

In the Preliminary Results, Commerce found that Tainai had no shipments of TRBs during the POR, based on Tainai's timely submitted no-shipment certification. As we have not received any information to contradict this preliminary finding, Commerce determines that Tanai did not have any shipments of subject merchandise during the POR and will issue appropriate instructions that are consistent with our “automatic assessment” clarification, for these final results.

Disclosure

Based on the above information, Commerce has not calculated any dumping margins for any companies under review, nor has Commerce granted a separate rate to any companies under review. Commerce continues to find that C&U Shanghai is part of the China-wide entity and is subject to the China-wide entity rate. Because no party requested a review of the China-wide entity, and we did not self-initiate a review, the China-wide entity rate ⁹ is not subject to change as a result of this review. Consequently, there are no calculations to disclose in accordance with 19 CFR 351.224(b) for these final results.

⁹ See Order.

Assessment Rates

Pursuant to section 751(a)(2)(C) of the Act and 19 CFR 351.212(b)(1), Commerce has determined, and U.S. Customs and Border Protection (CBP) shall assess, antidumping duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We have not calculated any assessment rates in this administrative review. As Commerce continues to find that Tainai did not have any shipments of subject merchandise during the POR and C&U Shanghai is part of the China-wide entity, we will instruct CBP to assess any suspended entries of subject merchandise associated with Tainai and C&U Shanghai at the China-wide rate (i.e., 92.84 percent).

Cash Deposit Requirements

The following cash deposit requirements will be effective upon publication of the final results of this administrative review for shipments of the subject merchandise from China entered, or withdrawn from warehouse, for consumption on or after the publication date, as provided by section 751(a)(2)(C) of the Act: (1) for previously investigated or reviewed China and non-China exporters that are not under review in this segment of the proceeding but have separate rates, the cash deposit rate will continue to be the exporter's existing cash deposit rate; (2) for all China exporters of subject merchandise that have not been found to be entitled to a separate rate, the cash deposit rate will be the existing rate for the China-wide entity of 92.84 percent; and (3) for all non-China exporters of subject merchandise which have not received their own rate, the cash deposit rate will be the rate applicable to the China exporter that supplied that non-China exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties has occurred and the subsequent assessment of double antidumping duties.

Administrative Protective Order (APO)

This notice also serves as a final reminder to parties subject to an APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These final results are issued and published in accordance with sections 751(a)(1)(B) and 777(i)(1) of the Act, and 19 CFR 351.221(b)(5).

Dated: December 29, 2025.
/S/Christopher Abbott
Christopher Abbott,
Deputy Assistant Secretary for Policy and Negotiations, performing the non-exclusive functions and duties of the Assistant Secretary for Enforcement and Compliance.

[FR Doc. 2025-24271 Filed 1-2-26; 8:45 am]

BILLING CODE 3510-DS-P